DEPARTMENT OF AGRICULTURE

Forest Service

Notice of New Fee Site; Federal Lands Recreation Enhancement Act, (Title VIII, Pub. L. 108-447)

AGENCY: Eldorado National Forest, USDA Forest Service.

ACTION: Notice of a proposed new fee site.

SUMMARY: The Eldorado National Forest is planning to charge a $65.00 fee for the overnight rental of Sly Guard Cabin. This historic structure has been recently restored, and has not been available for recreation use prior to this date. Rentals of other cabins on the Eldorado National Forest have shown that people appreciate and enjoy the availability of historic rental cabins. Funds from the rental will be used for the continued operation and maintenance of Sly Guard Cabin.

The Eldorado National Forest currently has four other cabin rentals. These rentals are often fully booked throughout their rental season. A business analysis of Sly Guard Cabin has shown that people desire having this sort of recreation experience on the Eldorado National Forest. A market analysis indicates that the $50/per night fee is both reasonable and acceptable for this sort of unique recreation experience.

DATES: It is anticipated that Sly Guard Cabin will be available for rent June, 2007.

ADDRESSES: Forest Supervisor, Eldorado National Forest, 100 Forni Road, Placerville, CA 95667.

FOR FURTHER INFORMATION CONTACT: Diana Erickson, Recreation Fee Coordinator, (530) 621-5214.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

People wanting to rent Sly Guard Cabin will need to do so through the National Recreation Reservation Service, at http://www.reserveusa.com or by calling 1-877-444-6777. The National Recreation Reservation Service charges a $9 fee for reservations.

Dated: May 8, 2007.
Ramiro Villalvazo,
Eldorado National Forest Supervisor.

[FR Doc. 07-2353 Filed 5-11-07; 8:45 am]

BILLING CODE 3410-11-M